DEPARTMENT OF DEFENSE

Office of the Secretary

32 CFR Part 256

[DoD Instruction 4165.57]

Air Installations Compatible Use Zones

AGENCY: Department of Defense.

ACTION: Final rule.

SUMMARY: This final rule removes the DoD's rule concerning air installations compatible use zones. The underlying DoD Instruction has been revised and it has been determined that there is no need to publish the revised DoD Instruction as a rule in the Code of Federal Regulations since the Instruction is for the internal management of the DoD.

DATES: Effective Date: September 16, 2011.

FOR FURTHER INFORMATION CONTACT: Ms. Patricia L. Toppings at 703-696-5284.

SUPPLEMENTARY INFORMATION: A copy of the current DoD Instruction may be obtained from http://www.dtic.mil/whs/directives/corres/pdf/416557p.pdf.

List of Subjects in 32 CFR Part 256

Armed forces; airports; environmental protection; Federal buildings and facilities; navigation (air); noise control.

PART 256—[REMOVED]

Accordingly, by the authority of 5 U.S.C. 301, 32 CFR part 256 is removed.

Dated: August 24, 2011.
Patricia L. Toppings,
OSD Federal Register Liaison Officer, Department of Defense.

[FR Doc. 2011-23759 Filed 9-15-11; 8:45 am]

BILLING CODE 5001-06-P